DEPARTMENT OF COMMERCE

International Trade Administration

[A-428-825]

Stainless Steel Sheet and Strip in Coils From Germany; Antidumping Duty Administrative Review; Extension of Time Limits

AGENCY: Import Administration, International Trade Administration, Department of Commerce.

ACTION: Notice of extension of time limits.

SUMMARY: The Department of Commerce (the Department) is extending the time limits for the final results of the 1999-2000 administrative review of the antidumping duty order (A-428-825) on stainless steel sheet and strip in coils from Germany. This review covers one manufacturer/exporter of the subject merchandise to the United States and the period January 4, 1999 through June 30, 2000.

EFFECTIVE DATE: November 8, 2001.

FOR FURTHER INFORMATION CONTACT: Patricia Tran at (202) 482-1121 or Robert James at (202) 482-0649, Antidumping and Countervailing Duty Enforcement Group III, Office Eight, Import Administration, International Trade Administration, U.S. Department of Commerce, 14th Street and Constitution Avenue NW., Washington, DC 20230.

SUPPLEMENTARY INFORMATION: On August 13, 2001, we published the preliminary results of this administrative review. See Stainless Steel Sheet and Strip in Coils from Germany; Notice of Preliminary Results of Antidumping Duty Administrative Review 66 FR 42509 (August 13, 2001). Currently, the final results in this administrative review are due on December 11, 2001. Petitioners' and respondent's case and rebuttal briefs raise complicated issues, such as major inputs from affiliated and unaffiliated suppliers; therefore, it is not practicable to complete this review within the normal statutory time limit. The Department is extending the time limits for completion of the final results until February 9, 2002 in accordance with section 751(a)(3)(A) of the Tariff Act of 1930, as amended.

Dated: October 30, 2001.
Edward Yang,
Acting Deputy Assistant Secretary for Import Administration.

[FR Doc. 01-28091 Filed 11-7-01; 8:45 am]

BILLING CODE 3510-DS-P